ENVIRONMENTAL PROTECTION AGENCY

[FRL-9214-2]

Science Advisory Board Staff Office; Notification of a Public Teleconference of the Clean Air Scientific Advisory Committee (CASAC)

AGENCY: Environmental Protection Agency (EPA).

ACTION: Notice.

SUMMARY: The Environmental Protection Agency (EPA) Science Advisory Board (SAB) Staff Office announces a public teleconference of the Clean Air Scientific Advisory Committee (CASAC) to conduct a quality review and approve two draft reports from the CASAC Ambient Air Monitoring and Methods Subcommittee (AAMMS) and a draft report from the CASAC Oxides of Nitrogen (NOX) and Sulfur Oxides (SOX) Secondary National Ambient Air Quality Standards (NAAQS) Review Panel.

DATES: The public teleconference will be held on November 8, 2010 from 10 a.m. to 2 p.m. (Eastern Time).

ADDRESSES: The public teleconference will be conducted by telephone only.

FOR FURTHER INFORMATION CONTACT: Any member of the public who wants further information concerning the teleconference may contact Dr. Holly Stallworth, Designated Federal Officer (DFO), EPA Science Advisory Board (1400R), U.S. Environmental Protection Agency, 1200 Pennsylvania Avenue, NW., Washington, DC 20460; via telephone/voice mail (202) 564-2073; fax (202) 564-2098; or e-mail at stallworth.holly@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards under sections 108 and 109 of the Act. The CASAC is a Federal advisory committee chartered under the Federal Advisory Committee Act (FACA), as amended, 5 U.S.C., App. The CASAC will comply with the provisions of FACA and all appropriate SAB Staff Office procedural policies. Section 109(d)(1) of the CAA requires that the Agency periodically review and revise, as appropriate, the air quality criteria and the National Ambient Air Quality Standards (NAAQS) for the six “criteria” air pollutants.

As noted in 75 FR 51807-51808, the CASAC Ambient Air Monitoring and Methods Subcommittee held a public teleconference on September 15, 2010 to review EPA's white paper, Approach for the Development of a New Federal Reference Method (FRM) for Lead (Pb) in Total Suspended Particles (TSP), which outlines the approach for the development a new FRM for lead. CASAC will review the draft report of the AAMMS that provides advice on issues identified in the white paper. Information on the CASAC AAMMS white paper review can be found at the CASAC Web site at: http://yosemite.epa.gov/sab/sabproduct.nsf/0/0109B095F273EBA38525764600654702?OpenDocument.

As noted in 75 FR 54146-54147, the Ambient Air Methods and Monitoring Subcommittee (AAMMS) of the Clean Air Scientific Advisory Committee (CASAC) met on September 29-30, 2010 to provide advice to EPA on its near-road monitoring guidance materials and an associated pilot monitoring study. Specifically, EPA asked for advice on concepts and information that should be included in its forthcoming near-road monitoring guidance document, advice on how future near-road monitoring requirements for pollutants such as Carbon Monoxide (CO) and Particulate Matter (PM), may be drafted in a way to mesh with the existing Nitrogen Dioxide (NO2) requirements and foster a multi-pollutant monitoring infrastructure, and the objectives, approach, and execution of the near-road monitoring pilot study. In response to EPA's charge questions, AAMMS is drafting a report to be reviewed by the chartered CASAC on November 9, 2010. Information on the CASAC AAMMS review of EPA's near-road monitoring guidance and pilot study may be found at: http://yosemite.epa.gov/sab/sabproduct.nsf/0/9E0F3E9D727323C18525778900596432?OpenDocument.

As noted in 75 FR 54871-54872, the Clean Air Scientific Advisory Committee NOX and SOX Secondary National Ambient Air Quality Standards Review Panel met on October 6-7, 2010 to peer review EPA's Policy Assessment for the Review of the Secondary National Ambient Air Quality Standards for NOX and SOX: Second External Review Draft (September 2010). CASAC will review the draft report of the NOX and SOX: Secondary NAAQS Review Panel that provides advice on the policy assessment. Information on the CASAC NOX and SOX Secondary NAAQS Review Panel's activity can be found on the CASAC Web site at: http://yosemite.epa.gov/sab/SABPRODUCT.NSF/81e39f4c09954fcb85256ead006be86e/0fc13c821ee6181a85257473005ae1ec!OpenDocument.

Technical Contacts: (a) Any technical questions concerning the white paper entitled “Approach for the Development of a New Federal Reference Method (FRM) for Lead (Pb) in Total Suspended Particles (TSP)” can be directed to Ms. Joann Rice, OAQPS, at rice.joann@epa.gov or (919) 541-3372. The paper is posted at http://www.epa.gov/ttn/amtic/casacinf.html.

(b) Any technical questions concerning EPA's Near-Road Guidance Document Outline or Near-road Monitoring Pilot Study Objectives & Approach should contact Mr. Nealson Watkins at 919-541-5522 or watkins.nealson@epa.gov. These review documents may be found posted at http://www.epa.gov/ttn/amtic/casacinf.html.

(c) Any technical questions regarding the “Policy Assessment for the Review of the Secondary National Ambient Air Quality Standards for NOX and SOX: Second External Review Draft (September 2010)” should be directed to Dr. Byran Hubbell, OAR, at 919-541-0621 or hubbell.bryan@epa.gov. This review document can be accessed at http://www.epa.gov/ttn/naaqs/standards/no2so2sec/index.html.

Availability of Meeting Materials: A meeting agenda and other materials for the meeting will be placed on the CASAC Web site on the Web page reserved for the teleconferences, accessible through the calendar link on the blue navigation sidebar at http://www.epa.gov/casac.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a federal advisory committee to consider as it develops advice for EPA. They should send their comments directly to the Designated Federal Officer for the relevant advisory committee. Oral Statements: To be placed on the public speaker list for the teleconference, interested parties should notify Dr. Holly Stallworth, DFO, by e-mail no later than November 2, 2010. Individuals making oral statements will be limited to three minutes per speaker. Written Statements: Written statements for the teleconference should be received in the SAB Staff Office by November 2, 2010 so that the information may be made available to the CASAC Panel for its consideration prior to this meeting. Written statements should be supplied to the DFO via e-mail (acceptable file format: Adobe Acrobat PDF, MS Word, WordPerfect, MS PowerPoint, or Rich Text files in IBM-PC/Windows 98/2000/XP format).

Accessibility: For information on access or services for individuals with disabilities, please contact Dr. Stallworth at the phone number or e-mail address noted above, preferably at least ten days prior to the teleconference, to give EPA as much time as possible to process your request.

Dated: October 7, 2010.
Vanessa T. Vu,
Director, EPA Science Advisory Board Staff Office.

[FR Doc. 2010-26066 Filed 10-14-10; 8:45 am]

BILLING CODE 6560-50-P